DEPARTMENT OF THE INTERIOR

National Park Service

National Register of Historic Places; Notification of Pending Nominations

Nominations for the following properties being considered for listing in the National Register were received by the National Park Service before July 28, 2001. Pursuant to section 60.13 of 36 CFR Part 60 written comments concerning the significance of these properties under the National Register criteria for evaluation may be forwarded to the National Register, National Park Service, 1849 C St. NW, NC400, Washington, DC 20240. Written comments should be submitted by October 17, 2001.

Carol D. Shull,
Keeper of the National Register of Historic Places.

ALASKA

Anchorage Borough—Census Area

Spring Creek Lodge, 18939 Old Glen Hwy., Chugiak, 01000938

COLORADO

Denver County

Denver Tramway Powerhouse, 1416 Platte St., Denver, 01000940

CONNECTICUT

Windham County

Cady—Copp House, 115 Liberty Hwy, Putnam, 01000939

GEORGIA

Madison County

Colbert School, Jct. of Fourth St. and First Ave., Colbert, 01000942

Taylor County

Union Methodist Church Cemetery—Hays Campground Cemetery, Union Church Rd., Butler, 01000941

LOUISIANA

St. Mary Parish

Boy Scout Troop #1 Log Cabin, 601 Adams, Franklin, 01000944

Terrebonne Parish

Residence Plantation House, 8951 Park Ave., Houma, 01000943

MINNESOTA

Rice County

Trondhjem Norwegian Lutheran Church, 8501 Garfield Ave., Webster, 01000945

MISSISSIPPI

Oktibbeha County

Meadow Woods Plantation House, 2479 Oktoc Rd., Starkville, 01000946

MISSOURI

St. Louis Independent City

St. Boniface Neighborhood Historic District, Roughly bounded by Koeln and Tesson Sts., Broadway, and Alabama Ave., St. Louis (Independent City), 01000948

Tower Grave Heights Historic District, Bounded by Arsenal St., Grant Ave., McDonald Ave., and Gustine Ave., St. Louis (Independent City), 01000947

OKLAHOMA

Grady County

Oklahoma College for Women Historic District, Roughly bounded by Grand Ave., 19th St., Alabama Ave., and alley west of 15th St., Chickasha, 01000950

Nowata County

Cemetery Patent 110, Cty Rd. 412, 3.25 mi. N of jct. with US 60, Delaware, 01000951

Oklahoma County

First Church of Christ, Scientist, 1200 N. Robinson Ave., Oklahoma City, 01000949

PENNSYLVANIA

Berks County

Trexler Historic District, 375-424 Old Philadelphia Pike, Albany Township, 01000957

Centre County

Pennsylvania Match Company, 367 Phoenix Ave., Bellefonte, 01000954

Chester County

Welkinweir, 1368 Prizer Rd., East Nantmeal Township, 01000953

Lancaster County

Lancaster City Historic District, Roughly bounded by Liberty St., Broad St., Greenwood Ave., Race Ave., Lancaster, 01000956

York County

Chestnut Hill, 1105 Windsor Rd., Windsor Township, 01000952

TENNESSEE

Obion County

Washington Avenue and Florida Avenue Historic District, Located along Washington and Florida Aves., bet. 3rd and 5th Sts., Union City, 01000955

UTAH

Millard County

Robins, Merien, and Rosabelle, House, 110 West 200 North, Scipio, 01000962

Salt Lake County

Centennial Home, 307 Virginia St., Salt Lake City, 01000960

Holt, Samuel and Geneva, Farmstead, 10317 South 1300 West, South Jordan, 01000963

Iris Theater, Apartments and Commercial Building, (Murray City, Utah MPS) 4861 S. State St., Murray, 01000959

Westminster College President's Jpise, 1733 South 1300 East, Salt Lake City, 01000961

Summit County

Beech, Thomas and Jane, House, 47 West 50 South, Coalville, 01000958

WISCONSIN

Milwaukee County

Lawson Airplane Company—Continental Faience and Tile Company, 909 Menomonee Ave., South Milwaukee, 01000964

WYOMING

Converse County

Officer's Club, Douglas Prisoner of War, 115 S. Riverbend Dr., Douglas, 01000965

A correction has been requested for the following resource:

MASSACHUSETTS

Hampshire County

Parsons, Shepherd and Damon Houses Historic District 46, 58, and 66 Bridge St. Northampton, 01000627

[FR Doc. 01-24632 Filed 10-1-01; 8:45 am]

BILLING CODE 4310-70-P